DEPARTMENT OF THE INTERIOR

Bureau of Ocean Energy Management

[OMB Control Number 1010-0151; Docket ID: BOEM-2023-0004]

Agency Information Collection Activities; Plans and Information

AGENCY: Bureau of Ocean Energy Management, Interior.

ACTION: Notice of information collection; request for comment.

SUMMARY: In accordance with the Paperwork Reduction Act of 1995, the Bureau of Ocean Energy Management (BOEM) proposes this information collection request (ICR) to renew with revisions Office of Management and Budget (OMB) Control Number 1010-0151.

DATES: Interested persons are invited to submit comments no later than August 11, 2023.

ADDRESSES: Submit your written comments on this ICR to the OMB's desk officer for the Department of the Interior (DOI) at www.reginfo.gov/public/do/PRAMain. From the www.reginfo.gov/public/do/PRAMain landing page, find this information collection by selecting “Currently under Review—Open for Public Comments” or by using the search function. Please provide a copy of your comments by parcel delivery to the BOEM Information Collection Clearance Officer, Anna Atkinson, Bureau of Ocean Energy Management, 45600 Woodland Road, Sterling, Virginia 20166; or by email to anna.atkinson@boem.gov. Please reference OMB Control Number 1010-0151 in the subject line of your comments. You may also comment by searching the docket number BOEM-2023-0004 at www.regulations.gov.

FOR FURTHER INFORMATION CONTACT: Anna Atkinson by email at anna.atkinson@boem.gov or by telephone at 703-787-1025. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act of 1995, BOEM provides the general public and other Federal agencies with an opportunity to comment on new, proposed, revised, and continuing collections of information. This helps BOEM assess the impact of its information collection requirements and minimize the public's reporting burden. It also helps the public understand BOEM's information collection requirements and provide the requested data in the desired format.

Title of Collection: “30 CFR part 550, subpart B, Plans and Information.”

Abstract: This ICR concerns the paperwork requirements in the regulations under 30 CFR part 550, subpart B, “Plans and Information.”

The Outer Continental Shelf (OCS) Lands Act, as amended (43 U.S.C. 1331 et seq.), authorizes the Secretary of the Interior to prescribe regulations to administer leasing of mineral resources on the OCS. The Secretary delegated that regulatory authority to BOEM. BOEM's regulations apply to all operations conducted under a lease. The OCS Lands Act and BOEM's implementing regulations require lessees to submit exploration plans (EPs), development and production plans (DPPs), and development operations coordination documents (DOCDs) to the Secretary for approval prior to commencing certain activities. See 43 U.S.C. 1340 and 1351. On the Arctic OCS, lessees and operators are required to develop an integrated operations plan (IOP) for each exploratory program and to submit additional planning information with their EPs.

The BOEM regulations at 30 CFR part 550, subpart B, require lessees to submit plans and information before conducting OCS activities under a lease. Those information collections are the subject of this ICR.

BOEM geologists, geophysicists, and environmental scientists and other Federal agencies (e.g., the U.S. Fish and Wildlife Service (USFWS), National Marine Fisheries Service (NMFS)) analyze and evaluate the information collected under subpart B. Their analyses ensure that planned operations are safe, conserve OCS resources, and avoid undue effects on the marine, coastal, or human environment. BOEM uses the information to make an informed decision on whether to approve the proposed EP, DPP, or DOCD as submitted, or require modifications. BOEM also uses the information submitted by the lessees and operators (e.g., BOEM-0137, OCS Plan Information Form) to determine which mitigation measures are necessary to minimize adverse impacts. Also, the affected States may review the information collected to ensure consistency with their coastal zone management plans.

BOEM also provides reports (typically annually) to NMFS and USFWS to document compliance with the Endangered Species Act (ESA) and any relevant biological opinions. These reports may include information on the effectiveness of implemented terms and conditions and reasonable and prudent measures, adverse impacts of activities, and any incidental takes, in accordance with 50 CFR 402.14(i)(3).

NMFS' recent biological opinion titled “Biological Opinion on the Federally Regulated Oil and Gas Program Activities in the Gulf of Mexico,” (Consultation Number FPR-2017-9234) dated March 13, 2020, and amended in 2021 (GOM BiOp), covers all activities associated with the OCS oil and gas program in the Gulf of Mexico through approximately March 2029. The GOM BiOp addresses the impacts to and incidental take of ESA-listed species as a result of BOEM-authorized activities. Compliance with the GOM BiOp's relevant terms, conditions, mitigation measures, and protocols necessitates updates to the information that lessees and operators must submit in the appendices to their plans. Certain post-lease approvals (e.g., for activities involving new and unusual technologies, equipment involving entanglement risks, and certain geological and geophysical surveys) require step-down review with NMFS and may require additional information to fully assess the potential for impacts to protected species. A step-down review allows for a more expedient and detailed assessment of effects on species within the context of geographic area. The GOM BiOp modified reporting requirements from the prior BiOp issued by NMFS; therefore, BOEM is revising the estimated burdens identified in this ICR.

OMB Control Number: 1010-0151.

Form Number:

• BOEM-0137—OCS Plan Information Form

• BOEM-0138—EP Air Quality

• BOEM-0139—DOCD/DPP—Air Quality

• BOEM-0141—ROV Survey Report

• BOEM-0142—Environmental Impact Analysis Worksheet

Type of Review: Revision of a currently approved information collection.

Respondents/Affected Public: Potential respondents comprise Federal OCS oil, gas, and sulfur lessees and operators.

Total Estimated Number of Annual Responses: 1,291 responses.

Total Estimated Number of Annual Burden Hours: 286,144 hours.

Respondent's Obligation: Mandatory.

Frequency of Collection: On occasion, semi-monthly, and varies by section.

Total Estimated Annual Non-Hour Burden Cost: $3,688,524.

BOEM identified three non-hour costs associated with this information collection. Those costs are fees that BOEM charges lessees to review their planning documents, such as EPs ($4,348 fee for 95 EPs; total $413,060 annually), DPPs or DOCDs ($5,017 fee for 180 DPPs and DOCDs; total $903,060 annually), and conservation information documents (CIDs) ($32,372 fee for 17 CIDs; total $550,324 annually).

Also, lessees incur a non-hour cost associated with the Protected Species Observer Program. This cost totals $1,822,080 and covers observation activities that are usually subcontracted to companies with expertise in these areas.

Estimated Reporting and Recordkeeping Hour Burden: The current OMB Control Number 1010-0151 accounts for 436,438 annual burden hours, 4,266 responses, and $3,939,435 non-hour cost burdens. Based on several revisions, BOEM estimates the burden for the renewal will be 286,144 annual burden hours with 1,291 responses, and $3,688,524 non-hour cost burdens.

In calculating the information collection burdens, BOEM accounted for decreases in the number of plans submitted annually and for the changes resulting from the GOM BiOp. BOEM currently requires monthly marine mammal observation and monitoring reports and a final report within 90 days of the completion of a lessee's OCS survey, consistent with GOM BiOp Appendix A, “Seismic Survey Mitigation and Protected Species Observer Protocols.” The GOM BiOp requirements supersede BOEM's Notice to Lessees and Operators 2016-G02, which had required two reports each month. Therefore, BOEM estimates an overall decrease in the burden related to these monitoring reports.

The GOM BiOp requires additional reporting if one or more individuals from a protected species are observed within an enclosed moon pool, which is an opening in the bottom of a marine platform, drill ship, or vessel through which drilling is done. The operator must report the observation within 24 hours and daily thereafter as long as any individual from a protected species remains within the moon pool. With this new requirement, BOEM estimates a slight increase in annual reporting.

While the GOM BiOp increased certain reporting burdens for lessees and operators in the Gulf of Mexico, the overall burdens are estimated to decrease slightly due to the anticipated reduction in the number of plans submitted to BOEM.

A Federal Register notice with a 60-day public comment period on this proposed ICR was published on March 3, 2023 (88 FR 13459). BOEM received one comment during the 60-day comment period, which was supportive of the Federal Government's reporting and burden updates. No burdens were changed in connection with the public comment.

BOEM is again soliciting comments on the proposed ICR. BOEM is especially interested in public comments addressing the following issues: (1) is the collection necessary to the proper functions of BOEM; (2) what can BOEM do to ensure that this information is processed and used in a timely manner; (3) is the burden estimate accurate; (4) how might BOEM enhance the quality, utility, and clarity of the information to be collected; and (5) how might BOEM minimize the burden of this collection on the respondents, including minimizing the burden through the use of information technology?

Comments submitted in response to this notice are a matter of public record and will be available for public review on www.reginfo.gov. BOEM will include or summarize each comment in its ICR to OMB for approval of this information collection. You should be aware that your entire comment—including your address, phone number, email address, or other personally identifiable information included in your comment—may be made publicly available at any time. Even if BOEM withholds your information in the context of this ICR, your comment is subject to the Freedom of Information Act (FOIA). If your submission is requested under FOIA, your information will only be withheld if a determination is made that one of the FOIA exemptions to disclosure applies. Such a determination will be made in accordance with the Department's FOIA regulations (43 CFR part 2) and applicable law.

In order for BOEM to consider withholding from disclosure your personal identifying information, you must identify, in a cover letter, any information contained in your comment that, if released, would constitute a clearly unwarranted invasion of your personal privacy. You must also briefly describe any possible harmful consequences of the disclosure of information, such as embarrassment, injury, or other harm. Note that BOEM will make available for public inspection all comments in their entirety (except for proprietary information submitted by organizations and businesses, or by individuals identifying themselves as representatives of organizations or businesses).

BOEM protects proprietary information in accordance with FOIA (5 U.S.C. 552), the DOI's implementing regulations (43 CFR part 2), and 30 CFR part 550.

An agency may not conduct or sponsor, and a person is not required to respond to, a collection of information unless it displays a valid OMB control number.

The authority for this action is the Paperwork Reduction Act of 1995 (44 U.S.C. 3501 et seq.).

Karen Thundiyil,
Chief, Office of Regulations, Bureau of Ocean Energy Management.

[FR Doc. 2023-14822 Filed 7-12-23; 8:45 am]

BILLING CODE 4340-98-P